DEPARTMENT OF THE INTERIOR

National Park Service

[NPS-NCR-NACA- 15391; PPNCNCROL0, PPMPSPD1Y.M000]

Notice of Meeting, National Capital Memorial Advisory Commission

AGENCY: National Park Service, Interior.

ACTION: Notice of Meeting.

SUMMARY: In accordance with the Commemorative Works Act of 1986 (40 U.S.C. 8901 et seq.), notice is hereby given of a meeting of the National Capital Memorial Advisory Commission. Notice is also given that a meeting of the Commission was held December 12, 2013.

DATES: The public meeting of the National Capital Memorial Advisory Commission will be held Tuesday, May 6, 2014, at 1 p.m. (EASTERN). The past meeting was held Thursday, December 12, 2013, at 1 p.m. (EASTERN).

ADDRESSES: Commission members will meet in Room 311, the Boardroom of the Commission of Fine Arts, which is located on the 3rd Floor of the National Building Museum, 401 F Street NW., Washington, DC 20001. Persons who wish to attend the meeting should enter Room 311 directly through the room entry doors on the 3rd Floor hallway—this room will not be accessible through the Commission of Fine Arts offices in Suite 312.

FOR FURTHER INFORMATION CONTACT: Brandon Bies, Secretary to the Commission, by telephone at (202) 619-7097 or email brandon_bies@nps.gov, Glenn DeMarr, Monuments and Memorials Specialist, by telephone at (202) 619-7025 or email glenn_demarr@nps.gov, or Nancy Young, Acting Assistant to the Commission, by telephone at (202) 619-7097 or email nancy_young@nps.gov. Information considered at the meeting is also available at the Commission's Web site http://parkplanning.nps.gov/ncmac.

SUPPLEMENTARY INFORMATION: The Commission was established by Public Law 99-652, the Commemorative Works Act (40 U.S.C. 8901 et seq.), to advise the Secretary of the Interior (the Secretary) and the Administrator, General Services Administration, (the Administrator) on policy and procedures for establishment of, and proposals to establish, commemorative works in the District of Columbia and its environs, as well as such other matters as it may deem appropriate concerning commemorative works.

The Commission examines each memorial proposal for conformance to the Commemorative Works Act, and makes recommendations to the Secretary and the Administrator and to Members and Committees of Congress. The Commission also serves as a source of information for persons seeking to establish memorials in Washington, DC, and its environs.

The members of the Commission are as follows:

Director, National Park Service (Chairman)

Administrator, General Services Administration

Chairman, National Capital Planning Commission

Chairman, Commission of Fine Arts

Mayor of the District of Columbia

Architect of the Capitol

Chairman, American Battle Monuments Commission

Secretary of Defense

May 6, 2014, Commission Meeting Action Items

The Commission will consider two action items and one informational item:

(1) The Commission will review proposed legislation to establish a World War I Memorial in Washington, DC (Action Item).

(2) The Commission will consult with the Peace Corps Commemorative Foundation on an Alternative Sites Study for a memorial commemorating the mission of the Peace Corps and the ideals on which the Peace Corps was founded. (Action Item).

(3) The Commission will consult with the District of Columbia Office of Planning on commemorative works proposed on land owned or controlled by the District of Columbia, pursuant to DC Law 13-275, the Commemorative Works on Public Space Amendment Act of 2000. (Informational Item).

December 12, 2013, Commission Meeting Action Items

The Commission considered two action items and one informational item:

(1) National Liberty Memorial—The Commission considered a recommendation relative to placement of the memorial within Area I as established by the Commemorative Works Act of 1986 (Action Item). The Commission also consulted on an Alternative Sites Study for the memorial. (Action Item).

(2) Memorial to Gold Star Mothers and Gold Star Families—preliminary discussion of site considerations (Informational Presentation). The Commission received an informational presentation from the Gold Star Mothers Memorial Foundation.

Specific Information regarding each proposal is posted for public review on the Commission's Web site http://parkplanning.nps.gov/ncmac.

Statements and correspondence should be addressed to: Peter May, Chairman, National Capital Memorial Advisory Commission, 1100 Ohio Drive SW., Room 220, Washington, DC 20242, Attention: Brandon Bies, Secretary to the Commission. Statements and correspondence should be mailed or hand-delivered to this address, emailed to brandon_bies@nps.gov, or sent by telefax to (202) 401-0017. Persons who wish to file a written statement or testify at the Commission meeting should contact Mr. Bies by telephone at (202) 619-7097 or by email at brandon_bies@nps.gov. Persons seeking further information concerning the agenda topics or meeting arrangements should contact Mr. Bies for assistance or visit the Commission's Web site at http://parkplanning.nps.gov/ncmac.

The meeting will be open to the public. Any person may file with the Commission a written statement concerning the matters to be discussed. Before including your address, telephone number, email address, or other personal identifying information in your comment, you should be aware that your entire comment—including your personal identifying information—may be made publicly available at any time. While you may ask in your comment to withhold your personal identifying information from public review, we cannot guarantee that we will be able to do so.

Dated: April 28, 2014.
Alma Ripps,
Chief, Office of Policy.

[FR Doc. 2014-10155 Filed 5-1-14; 8:45 am]

BILLING CODE 4310-DL-P